DEPARTMENT OF THE TREASURY

Internal Revenue Service

26 CFR Part 20

Estate Tax; Estates of Decedents Dying After August 16, 1954

CFR Correction

In Title 26 of the Code of Federal Regulations, parts 2 to 29, revised as of April 1, 2005, on page 269, in § 20.2031-2, the equation in paragraph (b)(3), Example (2) is corrected to read as follows:

§ 20.2031-2 Valuation of stocks and bonds.

* * * * *

(b) * * *

(3) * * *

Example 2.

* * * * *

[FR Doc. 06-55501 Filed 1-12-06; 8:45 am]

BILLING CODE 1505-01-D